DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Kazuhiro Tanaka, M.D., Ph.D., National Institute of Dental and Craniofacial Research, National Institutes of Health: Based on the report of an investigation conducted by the National Institutes of Health (NIH) and additional analysis conducted by the Office of Research Integrity (ORI) in its oversight review, the U.S. Public Health Service (PHS) found that Dr. Kazuhiro Tanaka, former Visiting Postdoctoral Fellow, Molecular Biology Section, Craniofacial Developmental and Biology and Regeneration Branch (CDBRB), National Institute of Dental and Craniofacial Research (NIDCR), NIH, engaged in scientific misconduct in research supported by PHS funds from the NIDCR, NIH Intramural Program.

PHS found that Respondent engaged in scientific misconduct by falsifying data that were included in three published papers: Kazuhiro Tanaka, Yoshihiro Matsumoto, Fumihiko Nakatani, Yukihide Iwamoto, and Yoshihiko Yamada, “A zinc finger transcription αA-crystallin binding protein 1, is a negative regulator of the chondrocyte-specific enhancer of the α1(II) collagen gene,” Molecular and Cellular Biology (MCB) 20:4428-4435, 2000; Kazuhiro Tanaka, Noriyuki Tsumaki, Christine A. Kozak, Yoshihiro Matsumoto, Fumihiko Nakatani, Yukihide Iwamoto, and Yoshihiko Yamada, “A Krüppel-associated box-zinc finger protein, NT2, represses cell-type-specific promoter activity of the α2(XI) collagen gene,”Molecular and Cellular Biology 22:4256-4267, 2002; and Ying Liu, Haochuan Li, Kazuhiro Tanaka, Noriyuki Tsumaki, and Yoshihiko Yamada, “Identification of an enhancer sequence with the first intron required for cartilage-specific transcription of the α2(XI) collagen gene,” Journal of Biological Chemistry (JBC) 275:12712-12718, 2000.

Specifically, PHS found that Respondent:

• Falsified the results for CRYBP1 or Sox9 binding to the Col2a1 DNA sequence in electrophoretic mobility shift assays in Figure 1D and Figure 7 in MCB 20:4428-4435, 2000. He used duplicate copies of bands or duplicate copies of parts of lanes to falsely represent results from reportedly different experimental conditions;

• Falsified the results for NT2 binding to the Col11a2 DNA sequence in electrophoretic mobility shift assays in Figures 2D and 6B, and falsified the Western blot for NT2 mutant proteins in Figure 8B in MCB 22:4256-4267, 2002. He used duplicate copies of bands, parts of bands, or duplicate copies of parts of lanes to falsely represent results from reportedly different experimental conditions in Figures 2D and 6B; and falsely represented results for the Figure 8B Western blot by using duplicate copies of bands to represent NT2Δ1 (lane 2) and NT2Δ4 (lane 5) mutant proteins;

• Falsified the Western blot for Sox9 protein expression in Figure 4B, JBC 275:12712-12718, 2000, by using duplicate copies of lanes 1 and 2 to represent the Sox9 expression in cell extracts from both Balb 3T3 and undifferentiated ATDC5 cells; and

• Falsified the Northern blots in multiple panels of Figure 3, MCB 20:4428-4435, 2000. He used duplicate copies of bands for CRYBP1, for Type II collagen, for Type X collagen, and for GAPDH and 18S EtBr stained control bands to falsely represent results of RNA expression from these different genes in ATDC5 cells. He also used duplicate copies of bands to falsely represent the RNA expression in ATDC5 cells grown under different conditions for either collagen Type II in Figure 3, MCB 2000 or collagen α1(X) in Figure 5 in MCB 22:4256-4267, 2002. Similarly, duplicate copies of 18S EtBr stained control bands were used in both figures with reportedly different experimental conditions.

Both Respondent and PHS are desirous of concluding this matter without further expense of time and other resources, and the parties have entered into a Voluntary Exclusion Agreement (Agreement). The settlement is not an admission of liability on the part of the Respondent. Respondent neither admits nor denies ORI's finding of scientific misconduct. Respondent acknowledges that original data relating to the above referenced falsified figures are missing.

Dr. Tanaka has voluntarily agreed, for a period of three (3) years, beginning on January 14, 2009:

(1) To exclude himself from any contracting or subcontracting with any agency of the United States Government and from eligibility or involvement in nonprocurement programs of the United States Government referred to as “covered transactions” pursuant to HHS' Implementation (2 CFR Part 376 et seq.) of OMB Guidelines to Agencies on Government wide Debarment and Suspension (2 CFR, Part 180); and

(2) To exclude himself from serving in any advisory capacity to PHS, including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E9-2720 Filed 2-9-09; 8:45 am]

BILLING CODE 4150-31-P